DEPARTMENT OF ENERGY

Federal Energy Regulatory Commission

Combined Notice of Filings #2

Take notice that the Commission received the following electric rate filings:

Docket Numbers: ER15-2013-010; ER12-2510-009; ER15-2014-005; ER10-2435-016; ER10-2440-012; ER10-2442-014; ER12-2512-009; ER19-481-002; ER15-2018-005; ER18-2252-001; ER10-3286-013; ER15-2022-005; ER10-3299-012; ER10-2444-016; ER10-2446-012; ER15-2026-005; ER15-2020-008; ER10-2449-014; ER19-2250-002.

Applicants: Talen Energy Marketing, LLC, Brandon Shores LLC, Brunner Island, LLC, Camden Plant Holding, L.L.C., Dartmouth Power Associates Limited Partnership, Elmwood Park Power, LLC, H.A. Wagner LLC, LMBE Project Company LLC, Martins Creek, LLC, MC Project Company LLC, Millennium Power Partners, LP, Montour, LLC, New Athens Generating Company, LLC, Newark Bay Cogeneration Partnership, L.P, Pedricktown Cogeneration Company LP, Susquehanna Nuclear, LLC, Talen Montana, LLC, York Generation Company LLC, TrailStone Energy Marketing, LLC.

Description: Notification of Change in Status of the Indicated MBR Sellers, et al.

Filed Date: 4/27/20.

Accession Number: 20200427-5181.

Comments Due: 5 p.m. ET 5/18/20.

Docket Numbers: ER20-1136-001.

Applicants: Idaho Power Company.

Description: Tariff Amendment: Amendment re Add Omitted Cancelled Service Agreement to be effective 6/30/2020.

Filed Date: 4/27/20.

Accession Number: 20200427-5120.

Comments Due: 5 p.m. ET 5/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2020.
Nathaniel J. Davis, Sr.,
Deputy Secretary.

[FR Doc. 2020-09312 Filed 4-30-20; 8:45 am]

BILLING CODE 6717-01-P